DEPARTMENT OF LABOR

Employment and Training Administration

[TA-W-53,872]

Metso Minerals Industries, Inc., Colorado Springs, CO; Notice of Termination of Investigation

Pursuant to section 221 of the Trade Act of 1974, investigation was initiated on December 23, 2003 in response to a petition filed by a company official at Metso Minerals Industries, Inc., Colorado Springs, Colorado.

The petitioner requested that the petition be withdrawn. Consequently, further investigation would serve no purpose, and the investigation has been terminated.

Signed at Washington, DC this 30th day of January 2004.
Linda G. Poole,
Certifying Officer, Division of Trade Adjustment Assistance.

[FR Doc. 04-3317 Filed 2-13-04; 8:45 am]

BILLING CODE 4510-30-P